DEPARTMENT OF JUSTICE

Notice of Lodging of Settlement Agreement in In re Cedar Chemical Co. and In re Vicksburg Chemical Corp., Under the Comprehensive Environmental Response Compensation and Liability Act (Cercla)

Notice is hereby given that on March 24, 2004, a Stipulation and Order has been filed with the United States Bankruptcy Court for the Southern District of New York in In re Cedar Chemical Co., Case No. 02-11039, and In re Vicksburg Chemical Corp., Case No. 02-11040 (Bankr. S.D.N.Y.), concerning the liabilities of the Debtors for chemical plant facilities in West Helena, Arkansas, and Vicksburg, Mississippi. This settlement would resolve the EPA's claims in this bankruptcy proceeding for a cash payment of $250,000, $125,000 for each site.

The Department of Justice will receive comments relating to the Stipulation and Order for a period of thirty (30) days from the date of this publication. Comments should be addressed to the Assistant Attorney General, Environment and Natural Resources Division, P.O. Box 7611, U.S. Department of Justice, Washington, DC 20044-7611, and should refer to In re Cedar Chemical Co. and In re Vicksburg Chemical Corp. (Bankr. S.D.N.Y.), D.J. Ref. 90-7-1-463/1.

The Stipulation and Order may be examined at the Office of the United States Attorney for the Southern District of New York, Civil Division, 86 Chambers Street, 3d Floor, New York, NY 10007, by request to Assistant U.S. Attorney David J. Kennedy, and at the United States Environmental Protection Agency, 401 M Street, SW., Washington, DC 20460. During the public comment period, the Stipulation and Order may also be examined on the following Department of Justice Web site, http://www.usdoj.gov/enrd/open.html. A copy of the Stipulation and Order may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $2.00 (25 cents per page reproduction cost) payable to the U.S. Treasury.

Bruce S. Gelber,
Section Chief, Environmental Enforcement Section, Environment and Natural Resources Division.

[FR Doc. 04-7240 Filed 3-30-04; 8:45 am]

BILLING CODE 4410-01-M